DEPARTMENT OF THE INTERIOR

Fish and Wildlife Service

[FWS-HQ-WSFR-2020-N121; FF09W25000-201-FXGO166409WSFR0; OMB Control Number 1018-0100]

Agency Information Collection Activities; Administrative Procedures for U.S. Fish and Wildlife Service Financial Assistance Programs

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before December 8, 2020.

ADDRESSES: Send your comments on the information collection request by mail to the Service Information Collection Clearance Officer, U.S. Fish and Wildlife Service, MS: PRB (JAO/3W), 5275 Leesburg Pike, Falls Church, VA 22041-3803 (mail); or by email to Info_Coll@fws.gov. Please reference OMB Control Number 1018-0100 in the subject line of your comments.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the PRA and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: We issue financial assistance through grants and cooperative agreement awards to individuals; commercial organizations; institutions of higher education; non-profit organizations; foreign entities; and State, local, and Tribal governments. The Service administers a wide variety of financial assistance programs, authorized by Congress to address the Service's mission, as listed in the System for Award Management (SAM) Assistance Listings, previously referred to as the Catalog of Federal Domestic Assistance. SAM provides public descriptions of assistance listings of Federal programs, projects, services, and activities that provide assistance or benefits to the American public. It contains financial and non-financial assistance programs administered by departments and establishments of the Federal government. The Assistance Listings are assigned unique numbers and provide information on program types, the specific type of assistance for each program, and the applicable financial assistance authorities for each program. See the Service's active Assistance Listings on SAM.gov at https://beta.sam.gov/search?index=cfda&page=1&organization_id=100156642.

The Service currently manages the following types of assistance programs:

• Formula Grants

• Project Grants

• Project Grants (Discretionary)

• Cooperative Agreements (Discretionary Grants)

• Direct Payments with Unrestricted Use

• Use of Property, Facilities, and Equipment

• Provision of Specialized Services

• Advisory Services and Counseling

• Dissemination of Technical Information

• Training

Some assistance programs are mandatory and award funds to eligible recipients according to a formula prescribed in law or regulation. Other programs are discretionary and award funds based on competitive selection and merit review processes. Mandatory award recipients must give us specific, detailed project information during the application process so that we may ensure that projects are eligible for the mandatory funding, are substantial in character and design, and comply with all applicable Federal laws. Applicants to discretionary programs must give us information as dictated by the program requirements and as requested in the notice of funding opportunity (NOFO), including that information that addresses ranking criteria. All recipients must submit financial and performance reports that contain information necessary for us to track costs and accomplishments. The recipients' reports must adhere to schedules and rules in 2 CFR part 200, “Uniform Administrative Requirements, Cost Principles, and Audit Requirements for Federal Awards.” Part 200 prescribes the information that Federal agencies must collect, and financial assistance applicants and recipients must provide to receive benefits under Federal financial assistance programs, and supports this information collection.

The Service provides technical and financial assistance to other Federal agencies, States, local governments, Native American tribes, nongovernmental organizations, citizen groups, and private landowners for the conservation and management of fish and wildlife resources. The process begins with the submission of an application. The respective program reviews and prioritizes proposed projects based on their respective project selection criteria. Pending availability of funding, applicants can submit their application documents to the Service through the Federal Grants.gov website or through the Department's grants management system (currently the U.S. Department of Health and Human Services' GrantSolutions), when solicited by the Service through a Funding Opportunity.

As part of this collection of information, the Service collects the following types of information requiring approval under the PRA:

A. Application Package: We use the information provided in applications to: (1) Determine eligibility under the authorizing legislation and applicable program regulations; (2) determine allowability of major cost items under the Cost Principles at 2 CFR 200; (3) select those projects that will provide the highest return on the Federal investment; and (4) assist in compliance with laws, as applicable, such as the National Environmental Policy Act, the National Historic Preservation Act, and the Uniform Relocation Assistance and Real Property Acquisition Policies Act of 1970. The full application package (submitted by the applicant) generally includes the following:

• Required Federal financial assistance application forms (SF-424 suite of forms, as applicable to specified project).

• Project Narrative—generally includes items such as:

○ Statement of need,

○ Project goals and objectives,

○ Methods used and timetable,

○ Description of key personnel qualifications,

○ Description of stakeholders or other relevant organizations/individuals involved and level of involvement,

○ Project monitoring and evaluation plan, and/or

○ Other pertinent project specific information.

• Pertinent project budget-related information—generally includes items such as:

○ Budget justification,

○ Indirect cost statement,

○ Federally-funded equipment list, and/or

○ Certifications and disclosures.

B. Amendments: Recipients must provide written explanation and submit prior approval requests for budget or project plan revisions, reporting due date extensions, or other changes to approved award terms and conditions. The information provided by the recipient is used by the Service to determine the eligibility and allowability of activities and to comply with the requirements of 2 CFR 200.

C. Reporting Requirements: Reporting requirements associated with financial assistance awards generally include the following types of reports:

• Federal Financial Reports,

• Performance reports, and

• Real Property Status Reports, when applicable.

D. Recordkeeping Requirements: In accordance with 2 CFR 200.333, financial records, supporting documents, statistical records, and all other non-Federal entity records pertinent to a Federal award must be retained for a period of 3 years after the date of submission of the final expenditure report or, for Federal awards that are renewed quarterly or annually, from the date of the submission of the quarterly or annual financial report, respectively, as reported to the Federal awarding agency or pass-through entity (in the case of a subrecipient) (unless an exemption as described in 200.333 applies that requires retention of records longer than 3 years).

Proposed Revisions

Consolidation of OMB Control No. 1018-0007 into 1018-0100

The Pittman-Robertson Wildlife Restoration Act (16 U.S.C. 669 et seq.) and the Dingell-Johnson Sport Fish Restoration Act (16 U.S.C. 777 et seq., except 777e-1) provide authority for Federal assistance to the States for management and restoration of fish and wildlife. These Acts and the regulations in the Code of Federal Regulations (CFR) at 50 CFR 80, subpart D, require that States, territories, and the District of Columbia annually certify their hunting and fishing license sales. The Service's Wildlife and Sport Fish Restoration (WSFR) program currently collects those certifications under OMB Control No. 1018-0007, “Annual Certification of Hunting and Sport Fishing Licenses Issued, 50 CFR 80, Subpart D.” The WSFR program continues to enhance use of their “Wildlife Tracking and Reporting Actions for the Conservation of Species (TRACS)” system to collect information electronically from financial assistance applicants and recipients. As of Federal fiscal year 2021, WSFR will begin using TRACS to collect State license data and certifications electronically. As this control number includes the Wildlife TRACS system collection, in this revision we are consolidating the OMB Control No. 1018-0007 information collection requirements into this collection. If OMB approves this request, we will discontinue OMB Control Number 1018-0007. Consolidation of OMB approvals for Service financial assistance-related collections into a single collection reduces burden on the public by ensuring consistency in the application and award administration processes across all Service financial assistance programs.

Foreign Aid Transparency and Accountability Act Compliance

We have begun implementation of the enhanced results-oriented accountability requirements in the Foreign Aid Transparency and Accountability Act (Pub. L. 114-191), OMB guidance memorandum M-18-04, “Monitoring and Evaluation Guidelines for Federal Departments and Agencies that Administer United States Foreign Assistance,” and OMB revisions to 2 CFR part 200 published August 13, 2020 (85 FR 49506). To meet the enhanced requirements, some programs may collect more performance information than previously collected.

Title of Collection: Administrative Procedures for U.S. Fish and Wildlife Service Financial Assistance Programs.

OMB Control Number: 1018-0100.

Form Number: None.

Type of Review: Revision of a currently approved collection.

Respondents/Affected Public: Individuals; commercial organizations; institutions of higher education; non-profit organizations; foreign entities; and State, local, and Tribal governments.

Total Estimated Number of Annual Respondents: 7,166.

Total Estimated Number of Annual Responses: 10,801.

Estimated Completion Time per Response: Varies from 3 hours to 203 hours, depending on the activity.

Total Estimated Number of Annual Burden Hours: 192,355.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: October 6, 2020.
Madonna Baucum,
Information Collection Clearance Officer, U.S. Fish and Wildlife Service.

[FR Doc. 2020-22398 Filed 10-8-20; 8:45 am]

BILLING CODE 4333-15-P